DEPARTMENT OF EDUCATION

American Indian and Alaska Native Education Research Grant Program

AGENCY: Office of Educational Research and Improvement, Department of Education.

ACTION: Notice of final priority.

SUMMARY: The Secretary announces a priority for the American Indian and Alaska Native Education Research Grant Program to fund research that will evaluate the role of Native language and culture in the development of educational strategies for improving achievement and academic progress of American Indian and Alaska Native students. The Secretary uses this particular priority for a competition in fiscal year (FY) 2001 and may use this priority in later fiscal years.

EFFECTIVE DATE: This priority is effective July 16, 2001.

FOR FURTHER INFORMATION CONTACT: Karen Suagee, U.S. Department of Education, 555 New Jersey Avenue, NW., room 610B, Washington, DC 20208-5521. Telephone: (202) 219-2244 or via Internet: karen.suagee@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Background

The Office of Educational Research and Improvement (OERI) and the Office of Indian Education (OIE), within the Office of Elementary and Secondary Education (OESE), support educational research and development activities that improve the educational achievement and academic progress of American Indian and Alaska Native students. Under section 9141 of the Elementary and Secondary Education Act (the national research activities authority), the Department is authorized to fund research, evaluation, and data collection to provide information on the status of education for the Indian population and on the effectiveness of Indian Education Programs. Section 9141 further provides that the research activities funded under this authority shall be carried out in consultation with OERI.

Pursuant to this authority and in response to Executive Order 13096, entitled “American Indian and Alaska Native Education”, OIE and OERI are collaborating on their first grant competition. Moreover, pursuant to a Memorandum of Understanding between OESE and OERI, OERI will administer the competition.

The Executive Order requires the Department to develop and implement a comprehensive research agenda designed to improve the academic achievement and school retention of American Indian and Alaska Native students. The research agenda is to address three goals: (1) To establish baseline data on academic achievement and retention of American Indian and Alaska Native students in order to monitor improvements; (2) to evaluate promising practices used with those students; and (3) to evaluate the role of native language and culture in the development of educational strategies. Work on the research agenda is in progress. When the agenda is completed, the Secretary may establish additional priorities for grant competitions under this authority in FY 2002 and later years. During the interim period, the Secretary provides an absolute priority to address one of the agenda goals: evaluating the role of language and culture in developing educational strategies.

We published a notice of proposed priority for the American Indian and Alaska Native Education Research Grant Program in the Federal Register on April 19, 2001 (66 FR 20180). As noted in the proposed priority, recent research points to the degree of fit, or congruence, between the cultural contexts of home and school as a factor influencing academic and social development outcomes of students. These outcomes include, but are not limited to, academic achievement, reduced dropout rate, school engagement, responsible behavior (taking into account tribal values), attendance, and high school completion. The research suggests that achieving positive academic and social outcomes for students from diverse linguistic and cultural backgrounds may be enhanced by incorporating native language and culture in the development of educational strategies.

Family and community involvement in education is also vital to the academic and social development of students. For schools serving students from diverse linguistic and cultural backgrounds, the research also suggests that strong family and community collaboration with schools that reflects the language and culture of the community may support the efforts of schools to enhance student achievement and social development. The Secretary wishes to determine the extent to which, and the ways in which, incorporating native language and culture in educational strategies (including strong family and community collaboration with schools) contributes to the attainment of these positive academic and social outcomes for American Indian and Alaska Native students.

Analysis of Comments and Changes

In response to our invitation in the notice of proposed priority, 10 parties submitted comments on the proposed priority. Three comments indicated broad support for the purpose and content of the priority. Other comments can be grouped into the following general areas: recommendations to add a particular focus to the scope of the final priority and recommendations for technical or procedural changes or definitional clarity. An analysis of the comments and the changes to the priority since publication of the notice of proposed priority follow. Program administrative changes and changes the Secretary is not authorized to make under the applicable statutory authority are not addressed.

Comment: One comment noted that the majority of American Indians now live in urban areas and recommended that the absolute priority should focus the research on the educational needs of Indian children in urban areas. This comment also noted the loss of native languages in multi-tribal urban Indian environments and advised that the priority include research on the reintroduction of native languages into the curriculum in urban schools.

Discussion: Research on urban Indian educational needs is within the scope of the final priority. The text of the priority recognizes this by using the phrase, “* * * in both rural and urban settings.” However, the Secretary intends for applicants to have flexibility to focus on either rural or urban settings, or both. Regarding the second recommendation to include research on the reintroduction of native languages, the Secretary wishes to allow for flexibility in selecting topics rather than specifying particular topics, so no change will be made.

Change: The final priority has been revised to permit applicants to address research on either rural or urban settings, or both.

Comment: Two comments recommended making a distinction in the final priority between the role of language and culture in developing educational strategies. One comment emphasized that family and community support is essential for school-based approaches to language revitalization, and further noted the difficulties in many communities of securing such joint commitment. According to this comment, only a minority of Indian parents and community members supports native language programs in the schools. The same comment indicated that for the majority of tribes, incorporating tribal culture (as opposed to language) into educational strategies may therefore produce a more powerful effect on achievement. The second comment indicated that a distinction should be made in the final priority between total language immersion approaches and approaches that treat language and culture as a supplement to the mainstream curriculum.

Discussion: Research supports the position that language and culture are complementary elements insofar as language is a primary vehicle through which culturally embedded concepts are expressed. The final priority for funding research on both Native language and culture reflects this position and in addition, responds to the language of the Executive Order goal, “* * * to evaluate the role of native language and culture in the development of educational strategies.” However, the Secretary wishes to allow for flexibility in conducting research on this broad subject and recognizes that it may be feasible to address only one element at a time.

The Secretary also recognizes that total language immersion is a distinct approach in contrast to the supplemental nature of many instructional approaches to teaching language and culture. However, the Secretary does not wish to specify particular approaches, preferring that researchers identify approaches for study. Thus, no change has been made to distinguish total language immersion from the array of approaches to teaching language and culture.

Change: The final priority has been revised to allow applicants to address language or culture, or both elements.

Comment: One comment suggested that educational leadership be added to the listing of factors from among which applicants must consider in addressing the final priority.

Discussion: The factors stated in the final priority were intended to be illustrative of a range of factors, as opposed to an exhaustive listing. The Secretary intends for the applicant to identify and justify the factors that may affect either academic achievement or social development (or both) of students. Notwithstanding this intention, the Secretary agrees that educational leadership may be a significant factor in establishing a climate for enhancing teaching and learning and thus, adding educational leadership adds clarity.

Change: Educational Leadership will be added to the listing of factors that may contribute to positive academic achievement or social development.

Comment: Two comments indicated the need to add a specific focus to the statement of priority. One comment emphasized the need to integrate mental health approaches in conjunction with cultural strategies for educational and social success. This comment emphasized the need to have the issues of self-esteem, fear of failure, and discrimination incorporated into the cultural strategies. A second comment indicated that access to quality on-reservation instruction for deaf and hard of hearing Indian students was critically important.

Discussion: Regarding the first comment, the term “social development” as used in the priority statement is intended to encompass a number of factors, including healthy emotional development. The Secretary intends for applicants to identify these factors, if applicable to their proposed research. The second comment is directed to the provision of specialized instructional services and is thus not applicable to the research focus of the final priority.

Change: None.

Comment: One comment recommended certain additions to the items that the priority statement indicates should be included in a research application. This comment recommended that the following be added: (1) evidence that tribal protocols are followed to ensure access and support for the proposed research project; (2) the active involvement of American Indians and Alaska Natives in the conceptualization and conduct of the research; and (3) language explaining that “a rigorous design” can be one that uses many methods and creative approaches, including Native Ways of Knowing designs.

Discussion: In listing the components of a research application, the Secretary intended to identify the technical attributes of high quality research. While the Secretary acknowledges that the first two recommendations regarding proper protocol and active involvement of stakeholders may clearly enhance the quality of the research, the Secretary believes that high quality research may encompass additional attributes, and thus does not believe it necessary to make the two recommended changes. However, the third recommendation, to add multiple methods, including quantitative and qualitative methods, as well as innovative and creative approaches, does enhance understanding of what constitutes a rigorous design. Finally, as there are many high quality designs, the Secretary does not wish to specify examples.

Change: The listing of components of a high quality application will include language regarding multiple methodologies.

Comment: One comment recommended that the term “Indian organization” be defined for eligibility purposes and that tribal colleges and universities be specifically mentioned as qualified members of the applicant pool.

Discussion: The Secretary wishes to advise that there is no statutory or regulatory definition of “Indian organization.” However, the term, “Indian”, which modifies organization, is a defined term and is contained in section 9161(4) of Title IX of the Elementary and Secondary Education Act (ESEA). In addition, there is no separate definition of “Indian IHE”. However, as just noted, there is a statutory definition of “Indian” and the definition of “IHE” is contained by reference in section 14101(17) of Title XIV of the ESEA. Whether a particular tribal community college is an eligible applicant will be determined on a case-by-case basis.

Change: None.

Comment: One comment stated that projects should be funded for five years, and that the priority statement should include development and pilot testing of instructional strategies in the list of factors that may affect student outcomes.

Discussion: The Secretary believes that a project period of up to three years is adequate to conduct this type of research. The Field-Initiated Studies Education Research Grant Program, administered by OERI, is an example of such research. Concerning the second recommendation to add development and pilot testing of instructional strategies, the list of factors was intended to be illustrative of a range of factors, as opposed to an exhaustive listing. Thus, the Secretary does not believe it is necessary to add more examples.

Change: None.

Comment: A comment recommended that the term “evaluate” be replaced with “investigate” or “examine,” in order to reflect research language.

Discussion: The Secretary acknowledges that the term “evaluate” often connotes an activity to judge the merit or worth of a specific program or approach and may therefore be narrow in focus. However, Executive Order 13096 (to which this priority responds) utilizes the phrase, “evaluate the role of native language and culture * * *”, which the Secretary interprets in the broader sense of systematic study.

Change: No change.

Comment: One comment recommended that in order to avoid confusion, the words, “in later years”, be deleted from the Background section that precedes the priority statement.

Discussion: The Background section is intended to distinguish the single proposed priority on language and culture for this fiscal year from priorities in future years. Once the Research Agenda is completed and priority research questions are identified, the Secretary may elect to propose absolute, competitive, or invitational priorities from among the priority research questions in any given year, commencing in 2002.

Change: None

Absolute Priority: Under 34 CFR 75.105(c)(3), the Secretary gives an absolute preference to applications that meet the priority in the next paragraph. Funding this priority will depend on the availability of funds and the quality of applications received. There will be only one grant competition addressing this priority. Therefore, each applicant will compete against all applicants under this competition.

The Secretary funds only applicants that propose to expand the current research base for pre-kindergarten through secondary level education of American Indian and Alaska Native students, in both rural and urban settings, by addressing the following research question:

To what extent and in what ways does incorporating native language and culture in educational strategies affect either academic achievement or social development of American Indian and Alaska Native students, or both? In addressing this question applicants may choose to address only native language or culture (or both). In addition, applicants may choose to address only rural or urban settings (or both).

Applicants must take into account other factors that may affect these outcomes, such as curriculum and instruction, standards and assessment, school and classroom settings, educational leadership, teacher professional development, and family and community collaboration with schools.

The research proposed in the application should—

a. Incorporate a well-conceptualized and theoretically sound framework;

b. Incorporate a rigorous design (that utilizes multiple methods such as qualitative and quantitative as well as innovative and creative approaches, as appropriate) that is capable of generating findings that contribute substantially to understanding in the field;

c. Link previous research, theory, and findings to the proposed study;

d. Conduct work of sufficient size, scope, and duration to produce generalizable results;

e. Contribute to the advancement of knowledge; and

f. Provide for a dissemination plan that will facilitate effective use of the research by educators, community members, policy makers, and other interested parties.

Preference for Indian Applicants

Eligible entities for the national research program authorized under section 9141 of the Elementary and Secondary Education Act (20 U.S.C. 7861) are Indian Tribes, Indian organizations, State educational agencies, local educational agencies, institutions of higher education, including Indian institutions of higher education, and other public and private agencies and institutions. We want to advise the public that the statute requires the Secretary to give a preference to Indian Tribes, Indian organizations, and Indian institutions of higher education in awarding research grants authorized under section 9141.

(Section 9153; 20 U.S.C. 7873.)

The Secretary will award 5 extra points to applications submitted by the entities entitled to the statutory preference. We want to advise the public that a consortium application of eligible entities that includes an Indian Tribe, Indian organization or Indian institution of higher education would be considered eligible to receive the extra 5 points.

Electronic Access to This Document

You may view this document, as well as all other Department of Education documents published in the Federal Register, in text or Adobe Portable Document Format (PDF) on the Internet at: www.ed.gov/legislation/FedRegisterTo use PDF, you must have Adobe Acrobat Reader, which is available free at this site. If you have questions about using PDF, call the U.S. Government Printing Office (GPO), toll free, at (888) 293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number: 84.306N American Indian and Alaska Native Education Research Grant Program)

Program Authority: 20 U.S.C. 7861 and 7873 and section 931 of the Educational Research, Development, Dissemination, and Improvement Act of 1994 (20 U.S.C. 6031).

Dated: June 12, 2001.
Sue Betka,
Deputy Assistant Secretary, Office of Educational Research and Improvement.

[FR Doc. 01-15178 Filed 6-14-01; 8:45 am]

BILLING CODE 4000-01-P